DEPARTMENT OF TRANSPORTATION

Federal Aviation Administration

14 CFR Part 71

[Airspace Docket No. 02-AWP-2]

Establishment of Class D Surface Area at Indian Springs Air Force Auxiliary Field; Indian Springs, NV

AGENCY: Federal Aviation Administration (FAA), DOT.

ACTION: Direct final rule, confirmation of effective date.

SUMMARY: This document confirms the effective date of a direct final rule that establishes a Class D Surface Area at Indian Springs Air Force Auxiliary Field in Indian Springs, NV.

EFFECTIVE DATE: 0901 UTC March 21, 2002.

FOR FURTHER INFORMATION CONTACT: Jeri Carson, Air Traffic Division, Airspace Branch, AWP-520.11, Western-Pacific Region, Federal Aviation Administration, 15000 Aviation Boulevard, Lawndale, California 90261; telephone (310) 725-6611.

SUPPLEMENTARY INFORMATION: The FAA published this direct final rule with a request for comments in the Federal Register on February 27, 2002 (67 FR 8859). The FAA uses the direct final rulemaking procedure for a non-controversial rule when FAA believes that there will be no adverse public comment. This direct final rule advised the public that adverse comments were not anticipated, and that unless written adverse comments or written notice of intent to submit such adverse comments, were received within the comment period, the regulation would become effective on March 21, 2002. No adverse comments were received. Thus, this action confirms the direct final rule will become effective on that date.

Issued in Los Angeles, California, on April 5, 2002.
John Clancy,
Manager, Air Traffic Division, Western-Pacific Region.

[FR Doc. 02-10500 Filed 5-10-02; 8:45 am]

BILLING CODE 4910-13-M